DEPARTMENT OF DEFENSE

Office of the Secretary

Committee Renewal of Department of Defense Federal Advisory Committees—Defense Advisory Committee on Diversity and Inclusion

AGENCY: Department of Defense (DoD).

ACTION: Committee renewal of Federal Advisory Committee.

SUMMARY: The DoD is publishing this notice to announce that it is renewing the Defense Advisory Committee on Diversity and Inclusion (DAC-DI).

FOR FURTHER INFORMATION CONTACT: Jim Freeman, Advisory Committee Management Officer for the Department of Defense, 703-697-1142.

SUPPLEMENTARY INFORMATION: The DAC-DI is being renewed in accordance with the Federal Advisory Committee Act (FACA) (5 U.S.C. appendix) and 41 CFR 102-3.50(d), and as part of the renewal process, the DoD is filing a new DAC-DI charter along with its membership balance plan. The charter and contact information for the DAC-DI's Designated Federal Officer (DFO) are found at https://www.facadatabase.gov/FACA/apex/FACAPublicAgencyNavigation.

The DAC-DI shall examine and provide recommendations to improve racial/ethnic diversity, inclusion, and equal opportunity within the DoD, with a primary focus on military personnel. The DAC-DI shall conduct studies, make findings, and provide recommendations on matters and policies relating to improving racial/ethnic diversity, inclusion, and equal opportunity within the DoD, as determined by the Secretary of Defense and the Deputy Secretary of Defense (“the DoD Appointing Authority”) or the Under Secretary of Defense for Personnel and Readiness (USD(P&R)). All DAC-DI work will be in response to written terms of reference (TOR) approved by the DoD Appointing Authority or the USD(P&R) unless otherwise provided by in statute or Presidential directive.

The DAC-DI shall be composed of no more than 20 members, who have distinguished backgrounds and experience in one or more of the following disciplines: defense or national security, organizational or human resources management, constitutional or employment law, and diversity and inclusion. These members will come from varied backgrounds including academia and the public and private sectors.

DAC-DI members who are not full-time or permanent part-time Federal civilian officers or employees, or active duty members of the Uniformed Services, shall be appointed as experts or consultants, pursuant to 5 U.S.C. 3109, to serve as special government employee members. DAC-DI members who are full-time or permanent part-time Federal civilian officers or employees, or active duty members of the Uniformed Services shall be designated pursuant to 41 CFR 102-3.130(a), to serve as regular government employee members. The DoD Appointing Authority shall appoint the DAC-DI's leadership from among the membership previously appointed in accordance with DoD policy and procedures, for a term of service of one-to-two years, with annual renewal, which shall not exceed the member's approved DAC-DI appointment.

All members of the DAC-DI are appointed to exercise their own best judgement on behalf of the DoD, without representing any particular point of view, and to discuss and deliberate in a manner that is free from conflicts of interest. With the exception of reimbursement of official DAC-DI-related travel and per diem, DAC-DI members serve without compensation.

The public or interested organizations may submit written statements to the DAC-DI membership about the DAC-DI's mission and functions. Written statements may be submitted at any time or in response to the stated agenda of planned meeting of the DAC-DI. All written statements shall be submitted to the DFO for the DAC-DI, and this individual will ensure that the written statements are provided to the membership for their consideration.

Dated: October 21, 2022.
Aaron T. Siegel,
Alternate OSD Federal Register Liaison Officer, Department of Defense.

[FR Doc. 2022-23328 Filed 10-25-22; 8:45 am]

BILLING CODE 5001-06-P